DEPARTMENT OF ENERGY

Federal Energy Regulatory Commission

Notice of Technical Conference Organization

February 14, 2002.

In the matter of Docket Nos. RM01-12-000, RT01-2-001, RT-2-002, RT01-2-003, RT01-10-000, RT01-15-000, RT01-34-000, RT01-35-000, RT01-67-000, RT01-74-000, RT01-75-000, RT01-77-000, RT01-85-000, RT01-86-000, RT01-86-001, RT01-86-002, RT01-87-000, RT01-88-000, RT01-94-000, RT01-95-000, RT01-95-001, RT01-95-002, RT01-98-000, RT01-99-000, RT01-99-001, RT01-99-002, RT01-99-003, RT01-100-000, RT01-101-000, EC01-146-000, ER01-3000-000, RT02-1-000, EL02-9-000, EC01-156-000, ER01-3154-000, and EL01-80-000

Electricity Market Design and Structure, PJM Interconnection, L.L.C.,

Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company, UGI Utilities Inc., Allegheny Power, Avista Corporation, Montana Power Company, Nevada Power Company, Portland General Electric Company, Puget Sound Energy, Inc., Sierra Pacific Power Company, Southwest Power Pool, Inc., Avista Corporation, Bonneville Power Administration, Idaho Power Company, Montana Power Company, Nevada Power Company, PacifiCorp, Portland General Electric Company, Puget Sound Energy, Inc., Sierra Pacific Power Company, GridFlorida LLC, Florida Power & Light Company, Florida Power Corporation, Tampa Electric Company, Carolina Power & Light Company, Duke Energy Corporation, South Carolina Electric & Gas Company, GridSouth Transco, LLC, Entergy Services, Inc., Southern Company Services, Inc., California Independent System Operator Corporation, Bangor Hydro-Electric Company, Central Maine Power Company, National Grid USA, Northeast Utilities Service Company, The United Illuminating Company, Vermont Electric Power Company, ISO New England Inc., Midwest Independent System Operator, Alliance Companies, NSTAR Services Company, New York Independent System Operator, Inc., Central Hudson Gas & Electric Corporation, Consolidated Edison Company of New York, Inc., Niagara Mohawk Power Corporation, New York State Electric & Gas Corporation, Orange & Rockland Utilities, Inc., Rochester Gas & Electric Corporation, PJM Interconnection, L.L.C., Regional Transmission Organizations, Regional Transmission Organizations, International Transmission Company, DTE Energy Company, Arizona Public Service Company, El Paso Electric Company, Public Service Company of New Mexico, Tucson Electric Power Company, WestConnect RTO, LLC, Alliant Energy Corporate Services, Inc., MidAmerican Energy Company, Xcel Energy Services, Inc., TRANSLink Transmission Company, LLC, National Grid USA

Notice of Technical Conference Organization

As announced in the Notice of Technical Conference issued on February 5, 2002, Commission staff will hold a technical conference on February 19, 2002, to discuss the allocation of regional transmission organization (RTO) characteristics and functions between separate organizations within an RTO region.¹ Participants also may address the allocation of responsibility for performing other wholesale market functions. This notice provides further organizational details and the conference agenda.

¹ The RTO characteristics are: (1) Independence; (2) scope and regional configuration; (3) operational authority; and (4) short-term reliability. RTO functions include: (1) Tariff administration and design; (2) congestion management; (3) parallel path flow; (4) ancillary services; (5) OASIS, total transmission capacity and available transmission capacity; (6) market monitoring; (7) planning and expansion; and (8) interregional coordination. See Regional Transmission Organizations, Order No. 2000, FERC Stats. and Regs. 31,089 (1999), order on reh'g, Order No. 2000-A, FERC Stats. And Regs. 31,092 (2000), aff'd, Public Utility District No. 1 of Snohomish County, Washington v. FERC, 272 F.3d 607 (D.C. Cir. 2001). See also Order Providing Guidance on Continued Processing of RTO Filings, 97 FERC ¶ 61,146 at 61,633 (2001).

The conference will start at approximately 9 a.m. and will adjourn at about 4:45 p.m. It is scheduled to take place at the Commission's offices, 888 First Street, N.E., Washington, DC 20426, in the Commission Meeting Room on the second floor. The agenda is appended to this notice as Attachment A.

The conference is open for the public to attend, and registration is not required. Members of the Commission may attend the conference and participate in the discussions. We ask participants to focus on the following four questions:

(1) If the functions and characteristics specified in Order No. 2000 are shared or coordinated among separate organizations within an RTO, how would you suggest that these functions be apportioned? Please use the matrix appended to this notice as Attachment B as a guide.

(2) From the perspective of either engineering or economic efficiency, is it more appropriate to have certain functions administered over as large a region as possible? Conversely, are there certain functions which can be effectively administered at a sub-regional level?

(3) As we try to evaluate how functions might be apportioned, is it useful to distinguish between functions that relate solely to operating and administrating the transmission grid and functions that relate more to operation and oversight of markets for trading wholesale power and energy?

(4) Is the business model or incentive structure proposed for an organization relevant to the question of which functions it should undertake?

Any interested party may file comments in Docket No. RM01-12-000 that address the issues above or follow up on the conference discussions. It is not necessary to re-file comments or file summaries of comments already filed with the Commission. Commenters are asked to specifically identify the region or regions, if any, that their comments address, and to cross-file their comments in any appropriate RT dockets. Comments must be filed no later than March 12, 2002.

The Capitol Connection offers all open and special Commission meetings held at the Commission's headquarters live over the Internet, as well as via telephone and satellite. For a fee, you can receive these meetings in your office, at home, or anywhere in the world. To find out more about the Capitol Connection's live Internet, phone bridge, or satellite coverage, contact David Reininger or Julia Morelli at (703) 993-3100, or visit www.capitolconnection.gmu.edu. The Capitol Connection also offers FERC open meetings through its Washington, D.C.—area television service.

Additionally, live and archived audio of FERC public meetings are available for a fee via National Narrowcast Network's Hearings.com (sm) and Hearing-On-The-Line (r) services. Interested parties may listen to the conference live by phone or web. Hearings.com audio will be archived immediately for listening on demand after the event is completed. Call (202) 966-2211 for further details.

Those interested in obtaining transcripts of the conference need to contact Ace Federal Reporters at (202) 347-3700 or (800) 336-6646. Anyone interested in purchasing videotapes of the meeting should call VISCOM at (703) 715-7999.

Other questions about the conference program should be directed to: Diane Bernier, Office of Markets, Tariffs and Rates, Federal Energy Regulatory Commission, 888 First Street, N.E., Washington, D.C. 20426, (202) 219-2886, diane.bernier@ferc.gov.

Linwood A. Watson, Jr.,
Deputy Secretary.

[FR Doc. 02-4252 Filed 2-21-02; 8:45 am]

BILLING CODE 6717-01-P